DEPARTMENT OF AGRICULTURE

Grain Inspection, Packers and Stockyards Administration

Designation for the Jamestown, ND; Lincoln, NE; Memphis, TN; and Sioux City, IA Areas

AGENCY: Grain Inspection, Packers and Stockyards Administration, USDA.

ACTION: Notice.

SUMMARY: GIPSA is announcing designation of the following organizations to provide official services under the United States Grain Standards Act, as amended (USGSA): Grain Inspection, Inc. (Jamestown); Lincoln Inspection Service, Inc. (Lincoln); Midsouth Grain Inspection Service (Midsouth); and Sioux City Inspection and Weighing Service Company (Sioux City).

DATES: Effective April 1, 2009.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the September 2, 2008, Federal Register (73 FR 51269), GIPSA requested applications for designations to provide official services in the geographic areas assigned to the official agencies named above. Applications were due by October 1, 2008.

Jamestown, Lincoln, Midsouth, and Sioux City were the sole applicants for designation to provide official services in the areas currently assigned to them, so GIPSA did not ask for additional comments on them.

GIPSA evaluated all available information regarding the designation criteria in section 7(f)(l) of the USGSA (7 U.S.C. 79(f)) and determined that Jamestown, Lincoln, Midsouth, and Sioux City are able to provide official services in the geographic areas specified in the September 2, 2008, Federal Register, for which they applied. These designation actions to provide official services are effective April 1, 2009, and terminate March 31, 2012.

Interested persons may obtain official services by calling the telephone numbers listed below.

Official agency | Headquarters location and telephone | Designation start | Designation end
Jamestown | Jamestown, ND (701-252-1290); Additional Location: Appleton, MN | 4/1/2009 | 3/31/2012
Lincoln | Lincoln, NE (402-435-4386); Additional Location: Farwell, TX | 4/1/2009 | 3/31/2012
Midsouth | Memphis, TN (901-942-3216); Additional Locations: North Little Rock, AR and Stoneville, MS | 4/1/2009 | 3/31/2012
Sioux City | Sioux City, IA (712-255-8073); Additional Locations: Fort Dodge, IA; Windom, MN | 4/1/2009 | 3/31/2012

Section 7(f)(1) of the USGSA authorizes GIPSA's Administrator to designate a qualified applicant to provide official services in a specified area after determining that the applicant is better able than any other applicant to provide such official services (7 U.S.C. 79(f)(1)).

Under section 7(g)(1) of the USGSA, designations of official agencies are effective for 3 years unless terminated by the Secretary but may be renewed according to the criteria and procedures prescribed in section 7(f) of the USGSA.

Authority: 7 U.S.C. 71-87k.

Alan R. Christian,
Acting Administrator, Grain Inspection, Packers and Stockyards Administration.

[FR Doc. E9-5983 Filed 3-18-09; 8:45 am]

BILLING CODE 3410-KD-P